DEPARTMENT OF HOMELAND SECURITY

Federal Emergency Management Agency

44 CFR Part 67

[Docket No. FEMA-P-7901]

Proposed Flood Elevation Determinations

AGENCY: Federal Emergency Management Agency, Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, flood insurance, reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding and location of referenced elevation | ◆Elevation in feet (NAVD): Existing | ◆Elevation in feet (NAVD): Modified | Communities affected
Bayou Two Prairie:
Approximately 1,330 feet downstream of State Highway 13 | None | ◆215 | City of Carlisle.
Approximately 2,750 feet downstream of U.S. Highway 70 | None | ◆217 |
Candlewood Drain:
Approximately 880 feet downstream of Kerr Station Road | None | ◆271 | City of Cabot, Lonoke County, (Unincorporated Areas).
Approximately 4,120 feet upstream of Kerr Station Road | None | ◆295 |
Fourmile Creek:
Approximately 50 feet downstream of State Highway 321 | None | ◆243 | City of Austin.
Approximately 3,250 feet upstream of State Highway 321 | None | ◆246 |
Fourmile Creek:
Approximately 1,250 feet downstream of U.S. Highway 67/167 | None | ◆251 | City of Cabot.
Approximately 50 feet downstream of U.S. Highway 67/167 | None | ◆252 |
Hudson Branch:
Approximately 1,000 feet upstream of the confluence with Hudson Branch Creek | ◆256 | ◆257 | City of Cabot.
Approximately 800 feet upstream of North Polk Street | None | ◆270 |
Hudson Branch Creek:
Approximately 950 feet upstream of Union Pacific Railroad | None | ◆241 | City of Austin, Lonoke County, (Unincorporated Areas).
Approximately 3,050 feet upstream of State Highway 321/East Main Street | None | ◆248 |
Magness Creek:
At the confluence with Fourmile Creek | ◆233 | ◆234 | City of Cabot, Lonoke County, (Unincorporated Areas).
Approximately 1,950 feet upstream of Bailey Road | ◆281 | ◆282 |
White Oak Branch:
Approximately 320 feet downstream of State Highway 321/Bill Foster Memorial Highway | None | ◆262 | City of Cabot Lonoke County (Unincorporated Areas).
Approximately 4,860 feet upstream of Grayhawk Road | ◆284 | ◆287
ADDRESSES:
City of Austin, Lonoke County, Arkansas:
Maps are available for inspection at 202 Hendricks, Austin, Arkansas.
Send comments to The Honorable Barnie Chamberlain, Mayor, City of Austin, 202 Hendricks, Austin, Arkansas 72207.
City of Cabot, Lonoke County, Arkansas:
Maps are available for inspection at 101 North 2nd Street, Cabot, Arkansas.
Send comments to The Honorable Mickey Spunbaugh, Mayor, City of Cabot, 101 North 2nd Street, Cabot, Arkansas 72023.
City of Carlisle, Lonoke County, Arkansas:
Maps are available for inspection at 122 West Main Street, Carlisle, Arkansas.
Send comments to The Honorable Bob McCallie, Mayor, City of Carlisle, 122 West Main Street, Carlisle, Arkansas 72024.
Unincorporated Areas of Lonoke County, Arkansas:
Maps are available for inspection at Lonoke County Courthouse, 200 North Center Street, Lonoke, Arkansas.
Send comments to The Honorable Charlie Troutman, County Judge, Lonoke County, Lonoke County Courthouse, 200 North Center Street, Lonoke, Arkansas 72086.
Grand Bayou:
Approximately 50 feet upstream of the confluence with Carter Branch | None | ◆223 | Bienville Parish (Unincorporated Areas).
Approximately 80 feet upstream of State Highway 4 | None | ◆253 |
Lake Bistineau:
Entire shoreline with Bienville Parish | None | ◆148 | Bienville Parish (Unincorporated Areas).
Mill Creek:
Approximately 2,890 feet upstream of the confluence with Madden Branch | None | ◆154 | Town of Ringgold, Bienville Parish, (Unin­corporated Areas).
Approximately 2.7 miles upstream of Pleasant Road | None | ◆249 |
Saline Bayou:
Approximately 3.9 miles upstream of the confluence with Murry Branch | None | ◆278 | Bienville Parish (Unincorporated Areas).
Approximately 100 feet upstream of State Highway 151 | None | ◆343 |
Saline Bayou Tributary 1:
At the confluence with Saline Bayou | None | ◆281 | Bienville Parish (Unincorporated Areas).
Approximately 60 feet upstream of Hazel Street/State Highway 9 | None | ◆323 |
Saline Bayou Tributary 2:
At the confluence with Saline Bayou | None | ◆285 | Town of Arcadia, Bienville Parish, (Unincorporated Areas).
Approximately 90 feet upstream of Richardson Street | None | ◆378 |
Saline Bayou Tributary 3:
At the confluence with Saline Bayou | None | ◆295 | Town of Arcadia, Bienville Parish, (Unincorporated Areas).
Approximately 190 feet upstream of State Highway 151 | None | ◆328 |
South Mill Creek:
At the confluence with Mill Creek | None | ◆199 | Bienville Parish (Unincorporated Areas).
Approximately 1.3 miles upstream of Ceasar Road | None | ◆250
ADDRESSES:
Town of Arcadia, Bienville Parish, Louisiana:
Maps are available for inspection at 1819 South Railroad Avenue, Arcadia, Louisiana.
Send comments to The Honorable Eugene Smith, Mayor, Town of Arcadia, Post Office Box 767, Arcadia, Louisiana 71001.
Unincorporated Areas of Bienville Parish, Louisiana:
Maps are available for inspection at 100 Courthouse Drive, Arcadia, Louisiana.
Send comments to Rodney Warrn, Floodplain Administrator, Bienville Parish, Post Office Box 479, Arcadia, Louisiana 71001.
Town of Ringgold, Bienville Parish, Louisiana:
Maps are available for inspection at 2135 Hall Street, Ringgold, Louisiana.
Send comments to The Honorable Ben Plunkett, Mayor, Town of Ringgold, Post Office Box 565, Ringgold, Louisiana 71068.
◆North American Vertical Datum of 1988.

(Catalog of Federal Domestic Assistance No. 83.100, “Flood Insurance.”)

Dated: September 26, 2005.
David I. Maurstad,
Acting Director, Mitigation Division, Emergency Preparedness and Response Directorate.

[FR Doc. 05-19819 Filed 10-3-05; 8:45 am]

BILLING CODE 9110-12-P